SECURITIES AND EXCHANGE COMMISSION

[Release No. 34-100742; File No. SR-CboeBYX-2023-020]

Self-Regulatory Organizations; Cboe BYX Exchange, Inc.; Notice of Withdrawal of a Proposed Rule Change To Introduce an Enhanced RPI Order and Expand Its Retail Price Improvement Program To Include Securities Priced Below $1.00

August 16, 2024.

On December 27, 2023, Cboe BYX Exchange, Inc. (“Exchange”) filed with the Securities and Exchange Commission (“Commission”), pursuant to Section 19(b)(1) of the Securities Exchange Act of 1934 (“Act”),¹ and Rule 19b-4 thereunder,² a proposed rule change to modify Rule 11.24 to introduce an Enhanced RPI Order and expand its Retail Price Improvement program to include securities priced below $1.00. The proposed rule change was published for comment in the Federal Register on January 17, 2024.³ On February 27, 2024, pursuant to Section 19(b)(2) of the Act,⁴ the Commission designated a longer period within which to approve the proposed rule change, disapprove the proposed rule change, or institute proceedings to determine whether to disapprove the proposed rule change.⁵ On March 6, 2024, the Exchange submitted Amendment No. 1 to the proposed rule change, which replaced and superseded the proposed rule change as originally filed.⁶ On April 16, 2024, the Commission issued notice of Amendment No. 1 and instituted proceedings under Section 19(b)(2)(B) of the Act ⁷ to determine whether to approve or disapprove the proposed rule change, as modified by Amendment No. 1.⁸ On July 9, 2024, the Commission extended the time period for approving or disapproving the proposed rule change to September 13, 2024.⁹ On July 29, 2024, the Exchange submitted Amendment No. 2 to the proposed rule change, which replaced and superseded the proposed rule change as modified by Amendment No. 1.¹⁰ On August 15, 2024, the Exchange withdrew the proposed rule change (SR-CboeBYX-2023-020).

¹ 15 U.S.C. 78s(b)(1).

² 17 CFR 240.19b-4.

³ See Securities Exchange Act Release No. 99311 (Jan. 10, 2024), 89 FR 2993 (“Notice”). The Commission has not received any comments on the proposed rule change.

⁴ 15 U.S.C. 78s(b)(2).

⁵ See Securities Exchange Act Release No. 99610, 89 FR 15621 (Mar. 4, 2024). The Commission designated April 16, 2024 as the date by which the Commission shall approve or disapprove, or institute proceedings to determine whether to disapprove, the proposed rule change.

⁶ The full text of Amendment No. 1 is available on the Commission's website at: https://www.sec.gov/comments/sr-cboebyx-2023-020/srcboebyx2023020-442119-1127142.pdf.

⁷ 15 U.S.C. 78s(b)(2)(B).

⁸ See Securities Exchange Act Release No. 99965, 89 FR 29389 (Apr. 22, 2024).

⁹ See Securities Exchange Act Release No. 100467, 89 FR 57441 (Jul. 15, 2024).

¹⁰ The full text of Amendment No. 2 is available on the Commission's website at: https://www.sec.gov/comments/sr-cboebyx-2023-020/srcboebyx2023020-494523-1434306.pdf.

For the Commission, by the Division of Trading and Markets, pursuant to delegated authority.¹¹
¹¹ 17 CFR 200.30-3(a)(12).
J. Matthew DeLesDernier,
Deputy Secretary.

[FR Doc. 2024-18788 Filed 8-21-24; 8:45 am]

BILLING CODE 8011-01-P